DEPARTMENT OF ENERGY

Federal Energy Regulatory Commission

Combined Notice of Filings #1

January 6, 2009.

Take notice that the Commission received the following electric rate filings:

Docket Numbers: ER97-324-013; ER97-3834-020.

Applicants: The Detroit Edison Company, DTE Energy Trading, Inc.

Description: DTE Entities submits revised tariff sheets in compliance with the order issued 12/18/08.

Filed Date: 12/22/2008.

Accession Number: 20081229-0155.

Comment Date: 5 p.m. Eastern Time on Monday, January 12, 2009.

Docket Numbers: ER98-4289-006.

Applicants: Montana-Dakota Utilities Company.

Description: Montana-Dakota Utilities Co. submits the Updated Market Power Analysis.

Filed Date: 12/30/2008.

Accession Number: 20090105-0008.

Comment Date: 5 p.m. Eastern Time on Monday, March 2, 2009.

Docket Numbers: ER99-845-014.

Applicants: Puget Sound Energy, Inc.

Description: Notice of Change in Status of Puget Sound Energy, Inc.

Filed Date: 01/05/2009.

Accession Number: 20090105-5107.

Comment Date: 5 p.m. Eastern Time on Monday, January 26, 2009.

Docket Numbers: ER99-2948-016; ER00-2918-015; ER00-2917-015; ER05-261-008; ER01-556-014; ER01-1654-017; ER02-2567-015; ER05-728-008; ER04-485-012; ER07-247-007; ER07-245-007; ER07-244-007.

Applicants: Baltimore Gas and Electric Company, Constellation Power Sources Generation, Inc., Calvert Cliffs Nuclear Power Plant, Inc., Constellation Energy Commodities Group, Inc., Handsome Lake Energy, LLC, Nine Mile Point Nuclear Station, LLC, Constellation NewEnergy, Inc., Constellation Energy Commodities Group Maine, LLC, R.E. Ginna Nuclear Power Plant, LLC, Raven One, LLC, Raven Two, LLC, Raven Three, LLC.

Description: Constellation MBR Entities forwards six public CD's containing their joint triennial market power update for the Southeast Region, and updated market power analysis in compliance with Order 697 etc.

Filed Date: 12/30/2008.

Accession Number: 20090102-0092.

Comment Date: 5 p.m. Eastern Time on Monday, March 2, 2009.

Docket Numbers: ER99-3665-010; ER02-1947-011, ER08-1354-004.

Applicants: Occidental Power Marketing L.P., Occidental Power Services, Inc., Occidental Chemical Corporation.

Description: Occidental Sellers submits an updated market power analysis for the Southeast region.

Filed Date: 12/31/2008.

Accession Number: 20090105-0004.

Comment Date: 5 p.m. Eastern Time on Monday, March 2, 2009.

Docket Numbers: ER00-38-008; ER00-1115-008; ER00-3562-008; ER06-749-004; ER06-751-005; ER06-441-003; ER01-480-007; ER06-750-004; ER06-752-004; ER07-1335-004.

Applicants: Broad River Energy LLC, Calpine Construction Finance Company, LP, Calpine Energy Services, L.P., Carville Energy, LLC, Columbia Energy, LLC, Decatur Energy Center, LLC, Mobile Energy, LLC, Morgan Energy Center, LLC, Pine Bluff Energy, LLC, Santa Rosa Energy Center, LLC.

Description: Broad River Energy LLC et al (Calpine Southeast MBR Sellers) submits their joint triennial market power update to comply with the Commission's directives in Order No 697-A etc.

Filed Date: 12/30/2008.

Accession Number: 20090102-0083.

Comment Date: 5 p.m. Eastern Time on Monday, March 2, 2009.

Docket Numbers: ER00-3080-004.

Applicants: Otter Tail Power Company.

Description: Otter Tail Power Company submits a Notice of Change in Status etc.

Filed Date: 12/30/2008.

Accession Number: 20090102-0085.

Comment Date: 5 p.m. Eastern Time on Wednesday, January 21, 2009.

Docket Numbers: ER00-3412-008; ER00-816-006; ER04-53-009; ER04-8-007; ER98-2440-007; ER98-3285-005; ER05-638-002; ER00-2687-010; ER05-1482-003.

Applicants: Ameren Energy Generating Company, Ameren Energy Marketing Company, AmerenEnergy Resources Generating Company, AmerenEnergy Medina Valley Cogen, L.L.C., Central Illinois Light Company, Central Illinois Public Service Company, Illinois Power Company, Union Electric Company, Electric Energy, Inc.

Description: Ameren Services Company submits an updated market power analysis.

Filed Date: 12/24/2008.

Accession Number: 20090102-0094.

Comment Date: 5 p.m. Eastern Time on Monday, February 23, 2009.

Docket Numbers: ER01-1403-010; ER06-1443-006; ER04-366-008; ER01-2968-011; ER01-845-009; ER05-1122-007; ER08-107-004

Applicants: FirstEnergy Operating Companies, Pennsylvania Power Company, Jersey Central Power & Light Company, FirstEnergy Solutions Corp., FirstEnergy Generation Corporation, FirstEnergy Nuclear Generation Corporation, FirstEnergy Mansfield Unit 1 Corp.

Description: The First Energy Operating Companies et al submits Triennial Market Power Update Analysis for Markets in the Midwest ISO.

Filed Date: 12/29/2008.

Accession Number: 20090102-0040.

Comment Date: 5 p.m. Eastern Time on Friday, February 27, 2009.

Docket Numbers: ER01-1418-010; ER02-1238-010, ER03-28-004; ER03-398-011.

Applicants: Effingham County Power, LLC, MPC Generating, LLC, Walton County Power, LLC, Washington County Power, LLC.

Description: Effingham County Power, LLC submits Updated Market Power Analysis; Application for Order Granting Revised Market-Based Rate Authority and Certain Waivers and Blanket Approvals; and Order 697 Compliance Filing.

Filed Date: 12/31/2008.

Accession Number: 20090105-0005.

Comment Date: 5 p.m. Eastern Time on Monday, March 2, 2009.

Docket Numbers: ER01-2636-005.

Applicants: ALLETE, Inc.

Description: Minnesota Power submits its Triennial Market Power Analysis requesting authority to sell energy, capacity and ancillary services at market-based rates pursuant to FERC's 6/21/07 Order.

Filed Date: 12/31/2008.

Accession Number: 20090105-0103.

Comment Date: 5 p.m. Eastern Time on Monday, March 2, 2009.

Docket Numbers: ER02-237-012.

Applicants: J. Aron & Company.

Description: J. Aron & Company submits the Updated Market Power Analysis.

Filed Date: 12/30/2008.

Accession Number: 20090102-0086.

Comment Date: 5 p.m. Eastern Time on Monday, March 2, 2009.

Docket Numbers: ER02-1572-006; ER02-1571-006; ER00-1259-008; ER00-3718-007; ER97-4281-019.

Applicants: Bayou Cove Peaking Power LLC, Big Cajun I Peaking Power LLC, Louisiana Generating LLC, NRG Sterlington Power LLC, NRG Power Marketing LLC.

Description: Bayou Cove Peaking Power LLC et al submits Updated Market Power Analysis.

Filed Date: 12/31/2008.

Accession Number: 20090105-0007.

Comment Date: 5 p.m. Eastern Time on Monday, March 2, 2009.

Docket Numbers: ER04-805-009.

Applicants: Wabash Valley Power Association, Inc.

Description: Wabash Valley Power submits Updated Market Power Analysis.

Filed Date: 12/30/2008.

Accession Number: 20090102-0084.

Comment Date: 5 p.m. Eastern Time on Monday, March 2, 2009.

Docket Numbers: ER05-1191-014.

Applicants: Union Power Partners, LP.

Description: Union Power Partners, LP submits an updated market power analysis that supports its continued market-based rate authorization pursuant to Orders 697 and 697A.

Filed Date: 12/30/2008.

Accession Number: 20090102-0088.

Comment Date: 5 p.m. Eastern Time on Monday, March 2, 2009.

Docket Numbers: ER06-549-002.

Applicants: Wheelabrator Ridge Energy Inc.

Description: Wheelabrator Ridge Energy, Inc submits the regional schedule set forth in Appendix D-2 of Order 697-A.

Filed Date: 12/31/2008.

Accession Number: 20090105-0018.

Comment Date: 5 p.m. Eastern Time on Wednesday, January 21, 2009.

Docket Numbers: ER06-744-004.

Applicants: Sabine Cogen, LP.

Description: Sabine Cogen, LP submits updated market power analysis and compliance filing.

Filed Date: 12/31/2008.

Accession Number: 20090105-0021.

Comment Date: 5 p.m. Eastern Time on Monday, March 2, 2009.

Docket Numbers: ER06-771-002; ER06-772-002; ER06-773-002.

Applicants: ExxonMobil Baton Rouge Complex, ExxonMobil Beaumont Complex, ExxonMobil LaBarge Shute Creek Treating Facility.

Description: Exxon Mobil Baton Rouge Complex et al submits their revised Order No 697 Compliance Filing.

Filed Date: 12/30/2008.

Accession Number: 20090102-0087.

Comment Date: 5 p.m. Eastern Time on Wednesday, January 21, 2009.

Docket Numbers: ER06-1265-002; ER02-1336-005.

Applicants: Orlando CoGen Limited, L.P., Vandolah Power Company, L.L.C.

Description: Pursuant to Order 697, Orlando CoGen Limited, LP et al request a Notice of Change in Status, and Limited Request for Privileged Treatment.

Filed Date: 12/30/2008.

Accession Number: 20090105-0101.

Comment Date: 5 p.m. Eastern Time on Monday, March 2, 2009.

Docket Numbers: ER08-396-003; EL08-31-001.

Applicants: Westar Energy, Inc.

Description: Westar Energy, Inc submits revised tariff sheets for the Rate Formula Template of its Open Access Transmission Tariff. FERC Electric Tariff, Second Revised 5 in conformance with the Commission's Designation etc.

Filed Date: 12/31/2008.

Accession Number: 20090105-0020.

Comment Date: 5 p.m. Eastern Time on Wednesday, January 21, 2009.

Docket Numbers: ER09-134-001; ER09-135-001; ER09-136-001; ER09-137-001.

Applicants: FirstEnergy Solutions Corp., FirstEnergy Generation Corp., FirstEnergy Nuclear Generation Corp., FirstEnergy Mansfield Unit 1 Corp.

Description: First Energy Solutions Corp et al submit amended market based rate tariffs in accordance with the Commission's 12/23/08 order.

Filed Date: 12/30/2008.

Accession Number: 20090102-0013.

Comment Date: 5 p.m. Eastern Time on Wednesday, January 21, 2009.

Docket Numbers: ER09-481-000.

Applicants: Westar Energy, Inc, Kansas Gas and Electric Company

Description: Westar Energy, Inc submits ministerial tariff revisions to its Rate Formula Template to Westar's FERC Open Access Transmission Tariff.

Filed Date: 12/30/2008.

Accession Number: 20090102-0012.

Comment Date: 5 p.m. Eastern Time on Wednesday, January 21, 2009.

Docket Numbers: ER09-482-000.

Applicants: Golden Spread Electric Cooperative, Inc.

Description: Golden Spread Electric Cooperative, Inc submits certain amendments to Golden Spread Eighth Revised Rate Schedule FERC 35 a long-term, bilateral Replacement Energy Agreement etc.

Filed Date: 12/31/2008.

Accession Number: 20090105-0024.

Comment Date: 5 p.m. Eastern Time on Wednesday, January 21, 2009.

Docket Numbers: ER09-483-000.

Applicants: Northern States Power Company.

Description: NSP Companies submits Notices of Cancellation of five Short-Term Market-Based Electric Service Agreement and one Long-Term Market-Based Electric Service Agreement among the NSP Companies and various counterparties.

Filed Date: 12/31/2008.

Accession Number: 20090105-0023.

Comment Date: 5 p.m. Eastern Time on Wednesday, January 21, 2009.

Docket Numbers: ER09-484-000.

Applicants: PJM Interconnection, L.L.C.

Description: PJM Interconnection, LLC submits amendments to Schedule 12—Appendix of the PJM Tariff etc.

Filed Date: 12/30/2008.

Accession Number: 20090105-0019.

Comment Date: 5 p.m. Eastern Time on Wednesday, January 21, 2009.

Docket Numbers: ER09-485-000.

Applicants: Electric Energy, Inc.

Description: Electric Energy, Inc submits Modification 21 to a Power Contract dated 9/2/87 between Electric Energy, Inc and the United States Department of Energy etc.

Filed Date: 12/30/2008.

Accession Number: 20090105-0010.

Comment Date: 5 p.m. Eastern Time on Wednesday, January 21, 2009.

Docket Numbers: ER09-486-000.

Applicants: Ashtabula Wind, LLC.

Description: Ashtabula Wind, LLC submits jurisdictional service agreement.

Filed Date: 12/30/2008.

Accession Number: 20090105-0022.

Comment Date: 5 p.m. Eastern Time on Wednesday, January 21, 2009.

Docket Numbers: ER09-487-000.

Applicants: NAEA Energy Massachusetts, LLC.

Description: NAEA Energy Massachusetts, LLC submits proposed revisions of its two cost-of-service Reliability Must-Run Agreements with ISO New England, Inc.

Filed Date: 12/31/2008.

Accession Number: 20090105-0009.

Comment Date: 5 p.m. Eastern Time on Wednesday, January 21, 2009.

Take notice that the Commission received the following electric securities filings:

Docket Numbers: ES07-36-002.

Applicants: Entergy Texas, Inc.

Description: Request of Entergy Texas, Inc., for Modification of Order Issued Under Section 204(a).

Filed Date: 01/02/2009.

Accession Number: 20090102-5062.

Comment Date: 5 p.m. Eastern Time on Friday, January 23, 2009.

Take notice that the Commission received the following open access transmission tariff filings:

Docket Numbers: OA08-69-002.

Applicants: Tucson Electric Power Company.

Description: Tucson Electric Power Company submits Open Access Transmission Tariff sheets.

Filed Date: 12/30/2008.

Accession Number: 20090102-0014.

Comment Date: 5 p.m. Eastern Time on Wednesday, January 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-486 Filed 1-12-09; 8:45 am]

BILLING CODE 6717-01-P